DEPARTMENT OF LABOR

Employment and Training Administration

[TA-W-74,326]

Pitney Bowes, Inc., Mailing Solutions Management Division Including On-Site Leased Workers of Guidant Group, and Teleworkers Located Throughout the United States, Shelton, CT; Amended Certification Regarding Eligibility To Apply for Worker Adjustment Assistance

In accordance with Section 223 of the Trade Act of 1974, as amended (“Act”), 19 U.S.C. 2273, the Department of Labor issued a Certification of Eligibility to Apply for Worker Adjustment Assistance on September 10, 2010, applicable to workers and former workers of Pitney Bowes, Inc., Mailing Solutions Management Division, Engineering Quality Assurance, Shelton, Connecticut. The Department's Notice was published in the Federal Register on September 23, 2010 (75 FR 57981).

At the request of a state workforce agent, the Department reviewed the certification to clarify the identity of the subject worker group.

The worker group consists of workers of Pitney Bowes, Inc., the Mailing Solutions Management Division, located in Shelton, Connecticut, including workers in the various subgroups of the Mailing Solutions Management Division, including but not limited to the engineering quality assurance group. The subject worker group also includes leased workers of Guidant Group working within the Mailing Solutions Management Division and on-site at the Shelton, Connecticut facility. The worker group also includes workers of Pitney Bowes, Inc. working within the Mailing Solutions Management Division who are located in remote work sites, including but not limited to home offices, located throughout the United States and who report to the Shelton, Connecticut facility.

The amended notice applicable to TA-W-74,326 is hereby issued as follows:

All workers of Pitney Bowes, Inc., Mailing Solutions Management Division, including on-site leased workers of Guidant Group and teleworkers located throughout the United States, Shelton, Connecticut, who became totally or partially separated from employment on or after June 23, 2009, through September 10, 2010, and all workers in the group threatened with total or partial separation from employment on the date of certification through two years from the date of certification, are eligible to apply for adjustment assistance under Chapter 2 of Title II of the Trade Act of 1974, as amended.

Signed at Washington, DC, this 3rd day of January 2011.
Del Min Amy Chen,
Certifying Officer, Office of Trade Adjustment Assistance.

[FR Doc. 2011-746 Filed 1-13-11; 8:45 am]

BILLING CODE 4510-FN-P